DEPARTMENT OF ENERGY

Federal Energy Regulatory Commission

[Docket Nos. RP04-6-000 and -001]

Enbridge Pipelines (KPC); Notice Of Technical Conference

January 6, 2005.

Take notice that the Commission staff will convene a technical conference on Wednesday, January 26, 2005, from 10 a.m. to 5 p.m. (e.s.t.), in a room to be designated at the offices of the Federal Energy Regulatory Commission, 888 First Street, NE., Washington, DC 20426.

The purpose of the conference is to address the negative deferred fuel account balance and surplus gas on Enbridge Pipelines (KPC) (Enbridge KPC). The Commission directed its staff to convene this technical conference in a December 22, 2004 order on rehearing and establishing technical conference.¹

¹ Enbridge Pipelines (KPC), 109 FERC ¶61,346 (2004).

This case began on October 1, 2003, as a result of revised tariff sheets submitted by Enbridge KPC to adjust its fuel reimbursement percentages to reflect changes in its fuel usage and lost and unaccounted for gas (L&U). The revised tariff sheets proposed, among other things, a decrease in the fuel reimbursement percentages (FRPs) that became effective November 1, 2003. Enbridge KPC should be prepared to further explain its proposal, and address the concerns raised in the December 1, 2003, request for rehearing of Kansas Corporation Commission (KCC) and its October 27, 2004, response to Staff's August 27, 2004, data request.

FERC conferences are accessible under section 508 of the Rehabilitation Act of 1973. For accessibility accommodations please send an e-mail to accessibility@ferc.gov or call toll free (866) 208-3372 (voice) or 202-208-1659 (TTY), or send a FAX to 202-208-2106 with the required accommodations.

All interested persons are permitted to attend.

Magalie R. Salas,
Secretary.

[FR Doc. E5-103 Filed 1-11-05; 8:45 am]

BILLING CODE 6717-01-P